DEPARTMENT OF THE INTERIOR

Bureau of Land Management

[NM-120-1430-ET; NMNM 113684]

Notice of Proposed Withdrawal and Opportunity for Public Meeting; New Mexico

AGENCY: Bureau of Land Management, Interior.

ACTION: Notice.

SUMMARY: The United States Department of Agriculture, Forest Service (U.S. Forest Service), has filed an application with the Bureau of Land Management (BLM) requesting the Secretary of the Interior to withdraw from mining 65 acres of National Forest System land in the Water Canyon Recreation Area of the Cibola National Forest. This notice segregates the land from location and entry under the United States mining laws for 2 years, while various studies and analyses are made to support a final decision on the withdrawal application.

DATES: Comments and requests for a public meeting must be received no later than March 5, 2007.

ADDRESSES: Comments and meeting requests should be sent to the Socorro Field Office Manager, BLM, 901 S. Highway 85, Socorro, New Mexico 87801, and to the U.S. Forest Service Supervisor, Cibola National Forest, 2113 Osuna Road NE, Suite A., Albuquerque, New Mexico 87113.

FOR FURTHER INFORMATION CONTACT: Doug Williams, Cibola National Forest, at the above address or at (505) 346-3869.

SUPPLEMENTARY INFORMATION: The applicant for the above withdrawal is the U.S. Forest Service at the address stated above. The applicant requests the Secretary of the Interior, pursuant to section 204 of the Federal Land Policy and Management Act of 1976, 43 U.S.C. 1714, to withdraw the following-described National Forest System land for a period of 20 years from location and entry under the United States mining laws, subject to valid existing rights:

New Mexico Principal Meridian

Cibola National Forest

T. 3 S., R. 3 W.,

Sec. 27, S½N½NE¼NE¼, S½NE¼NE¼, SE¼NE¼NW¼NE¼, NE¼SE¼NW¼NE¼, W½NE¼SE¼NE¼, W½SE¼NE¼, and N½NW¼NE¼SE¼.

The area described contains 65 acres in Socorro County.

The use of a right-of-way, an interagency agreement, or a cooperative agreement would not adequately constrain non-discretionary mining locations and related uses and would not provide adequate protection of the Federal investment in the improvements located on the land.

There are no suitable alternative sites which contain the unique cultural and associated natural ecosystem values.

No additional water rights would be needed to fulfill the purpose of the requested withdrawal.

The purpose of the proposed withdrawal would be to protect the unique recreational and historical interpretive integrity of the Water Canyon Recreation Area within the Cibola National Forest and also to protect a capital investment in the recreation area of approximately $750,000 of Federal funds.

For a period of 90 days from the date of publication of this notice, all persons who wish to submit comments, suggestions, or objections in connection with the proposed withdrawal may present their views in writing to both the Bureau of Land Management, and the Supervisor of the Cibola National Forest at the addresses stated above.

Records relating to the application as well as comments, including the names and street addresses of respondents, will be available for public review at both the BLM Socorro Field Office Manager and U.S. Forest Service Supervisor's Office, Cibola National Forest at the above addresses during regular business hours, 8 a.m. to 4:45 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to both the BLM Socorro Field Office Manager and the U.S. Forest Service Supervisor, Cibola National Forest, at the addresses stated above within 90 days from the date of publication of this notice. Upon determination by the authorized officer, Bureau of Land Management, that a public meeting will be held, a notice of the time and place will be published in the Federal Register and a newspaper in the vicinity of the above-described land, at least 30 days before the scheduled date of the meeting.

The application will be processed in accordance with the regulations set forth in 43 CFR part 2300.

For a period of 2 years from the date of publication of this notice in the Federal Register, the land will be segregated from location and entry under the United Stated mining laws. The segregative effect of publication of this notice shall terminate upon denial or cancellation of the subject application, approval of the application or on December 5, 2008, whichever occurs first. The temporary land uses which may be permitted during this segregative period include licenses, permits, rights-of-ways, and disposal of vegetation resources other than under the mining laws.

(Authority: 43 CFR 2310.3-1(b))

John Merino,
Field Manager, Socorro Field Office.

1

[FR Doc. E6-20528 Filed 12-4-06; 8:45 am]

BILLING CODE 3410-11-P